DEPARTMENT OF TRANSPORTATION

Federal Aviation Administration

[Docket No. FAA-2020-0623]

Agency Information Collection Activities: Requests for Comments; Clearance of Renewed Approval of Information Collection

AGENCY: Federal Aviation Administration (FAA), DOT.

ACTION: Notice and request for comments.

SUMMARY: In accordance with the Paperwork Reduction Act of 1995, FAA invites public comments about our intention to request the Office of Management and Budget (OMB) approval renew an information collection. The Federal Register Notice with a 60-day comment period soliciting comments on the following collection of information was published on in the Federal Register on 14 July 2020. The collection involves a series of voluntary surveys within the aviation community. The information to be collected will be used to and/or is necessary because it will lead to improvements for safety within the National Airspace.

DATES: Written comments should be submitted by 15 December 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Edward Kleinschmidt, edward.kleinschmidt@faa.gov phone: 202-267-4265.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0759.

Title: Safety Awareness Feedback and Evaluation (SAFE) Program.

Form Numbers: None.

Type of Review: Renewal.

Background: The Federal Register Notice with a 60-day comment period soliciting comments on the following collection of information was published on The Federal Register Notice with a 60-day comment period soliciting comments on the following collection of information was published on in the Federal Register on 14 July 2020 with citation: 85 FR 42482. The collection involves a series of voluntary surveys within the aviation community. The information to be collected will be used to and/or is necessary because it will lead to improvements for safety within the National Airspace.

Respondents: Respondents include active certificated entities within five (5) aviation stakeholder groups. These stakeholder groups include General Aviation Pilots, Aviation Maintenance Technicians (Mechanics), Commercial and ATP Rated Pilots, Repair Station Management, and Air Carrier Management.

Frequency: The FAA currently conducts two (2) SAFE program studies per calendar year. As such, each of the above five stakeholders will be surveyed once in a 2.5 year period.

Estimated Average Burden per Response: 20 minutes.

Estimated Total Annual Burden:

Stakeholder group | Population size (2018 data) | Estimated sample size (95% confidence level, 3% margin of error) | Estimated hour burden (20 minutes per respondent) | Estimated cost to respondent (based on median hourly rate from BLS) | Estimate cost of data collection
Commercial and Airline Transport Pilots | 262,025 | 1,063 | 354 | $18.53 | $6,565.80
General Aviation (top row) and Sport Pilots (bottom row) | 224,404 6,513 | 1,063 918 | 354 306 | 8.33 8.33 | 5,497.80
Repair Station Operators | 4,801 | 873 | 291 | 9.59 | 2,790.69
Aviation Maintenance Technicians and Repairers | 327,384 | 1,064 | 354 | 10.10 | 3,575.40
Air Carrier Operations Management | 1,895 | 683 | 228 | 19.78 | 4,509.84
Total |  |  | 1,887 |  | 22,939.53
Annualized |  |  | 629 |  | 7,646.15

Issued in Washington, DC, on November 4, 2020.
Jacqueline A Tonic,
SAFE Program Assistant, FAA, AVS, Flight Standards.

[FR Doc. 2020-25133 Filed 11-12-20; 8:45 am]

BILLING CODE 4910-13-P